ENVIRONMENTAL PROTECTION AGENCY

[EPA-HQ-OW-2014-0350; FRL-9973-50-OW]

Proposed Information Collection Request; Comment Request; National Fish Program (Formerly Referred to as the National Listing of Fish Advisories) (Renewal)

AGENCY: Environmental Protection Agency (EPA).

ACTION: Notice.

SUMMARY: The Environmental Protection Agency is planning to submit an information collection request (ICR), National Fish Program (formerly referred to as the National Listing of Fish Advisories), (EPA ICR Number 1959.06, OMB Control Number 2040-0226) to the Office of Management and Budget (OMB) for review and approval in accordance with the Paperwork Reduction Act. Before doing so, EPA is soliciting public comments on specific aspects of the proposed information collection as described below. This is a proposed extension of the ICR, which is currently approved through July 31, 2018. An Agency may not conduct or sponsor and a person is not required to respond to a collection of information unless it displays a currently valid OMB control number.

DATES: Comments must be submitted on or before April 23, 2018.

ADDRESSES: Submit your comments, referencing Docket ID No. EPA-HQ-OW-2014-0350, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: CDR Samantha Fontenelle, Office of Science and Technology, Standards and Health Protection Division, Environmental Protection Agency, 1200 Pennsylvania Ave. NW, Washington, DC 20460; telephone number: (202) 566-2083; fax number: (202) 566-0409; email address: fontenelle.samantha@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: There is a continuing need to maintain the overall quality and availability of public information concerning fish advisories. Primary responsibility for these activities lies with state and tribes. In 1993, EPA began compiling information on fish advisories provided by the states in its biannual 305(b) Water Quality Inventory Reports. In 1994, EPA's Office of Water began conducting a voluntary annual Fish Program Survey to obtain the most up-to-date information on fish advisories. This information is collected under the authority of section 104 of the Clean Water Act, which provides for the collection of information to be used to protect human health and the environment. The advisory information collected identifies the waterbody under advisory, the fish or shellfish species and size ranges included in the advisory, the chemical contaminants and residue levels causing the advisory to be issued, the waterbody type (river, lake, estuary, coastal waters), and the target populations to whom the advisory is directed. The results of the survey are shared with states, territories, tribes, other federal agencies, and the public through and online database. The responses to the survey are voluntary and the information requested is part of the state public record associated with the advisories. No confidential business information is requested.

Form Numbers: None.

Respondents/Affected Entities: Entities potentially affected by this action are Administrators of Public Health and Environmental Quality Programs in state and tribal governments (NAICS 92312/SIC 9431 and NAICS 92411/SIC 9511).

Respondent's Obligation To Respond: Voluntary (Clean Water Act, Section 104).

Estimated Number of Respondents: Up to 100.

Frequency of Response: Annual.

Total Estimated Burden: 2,468 labor hours (per year). Burden is defined at 5 CFR 1320.03(b).

Total Estimated Cost: $108,950.72 (per year), includes no capital or startup costs and annualized operation & maintenance costs.

Changes in Estimates: There is a 31 percent increase to the respondent burden from the currently approved ICR. The increase is due to revised hourly burden estimates based on input from three states; and the addition to two new activities to increase communication, engagement, information sharing and support between EPA and the states, territories and tribes.

Dated: January 23, 2018.
Deborah G. Nagle,
Acting Director, Office of Science and Technology.

[FR Doc. 2018-03676 Filed 2-21-18; 8:45 am]

BILLING CODE 6560-50-P